NATIONAL LABOR RELATIONS BOARD

Submission for OMB Review; Comment Request

AGENCY: National Labor Relations Board.

ACTION: Notice.

The National Labor Relations Board (NLRB) has submitted to OMB for clearance, the following proposal for collection of information under provisions of section 3506(c)(2)(A) of the Paperwork Reduction Act of 1995.

Title and Form Number: Supplemental Statement Application for Professional Position in the Office of the General Counsel; NLRB 4560.

Type of Request: New Collection.

Number of Respondents: 500.

Responses per Respondent: 1.

Annual Responses: 500.

Average Burden per Response: .5 Hours.

Annual Burden Hours: 250 Hours.

Needs and Uses: This requirement provides the collection of information from applicants applying for professional positions within the Office of the General Counsel. NLRB will use the information as a standard format that will substantially reduce the number of hours currently expended to review applications received for the positions of Attorneys and Field Examiners in the office of the General Counsel.

Affected Public: Individuals or Households.

SUMMARY: The notice is being republished to provide an additional (30) day comment period. The original notice was published on June 27, 2003 (3 FR 16303).

The National Labor Relations Board (NLRB), Office of the General Counsel, in accordance with section 3506(c)(2)(A) of the Paperwork Reduction Act of 1995, plans to request approval for the use of NLRB Form 4560, Supplemental Statement Application for Professional Position in the Office of the General Counsel. Using this form will substantially reduce the number of hours currently expended to review applications received for the positions of attorneys and field examiners in the office of the General Counsel.

Currently, applications are received in various forms, e.g., SF-171, OF-612, and resumes.

As a result, required information is not easily obtained and requested information necessary to the Agency's review may be missing altogether. By providing a standard format, all information necessary to the Agency's review would be addressed and in a consistent format that would facilitate and streamline that review.

Application forms, such as the SF-171 and OF-612, and resumes do not address a very important question that is included on the Supplemental Statement. Specifically, information concerning a candidate that would create an actual or apparent conflict of interest for assignment to a particular office because of a family and/or personal relationship with someone outside the NLRB who regularly does business with that particular NLRB office.

Receiving this information as part of the application package would prevent assignments to offices where these situations may exist.

DATES: Comments should be received on or before January 30, 2004.

ADDRESSES: Written comments and recommendations on the information collection should be sent to the National Labor Relations Board, Library and Administrative Services Branch, 1099 14th Street, NW., Washington, DC 20570-0001.

FOR FURTHER INFORMATION CONTACT: Tommie Gregg, Sr., Records Management and Anthony Wonkovich, Human Resources, at address shown above; by telephone at (202) 273-2833, (202) 237-3982; or by facsimile at (202) 273-4286.

SUPPLEMENTARY INFORMATION: Comment is requested on; (a) whether the proposed collection of information is necessary for the proper performance of the functions of the Agency, including, whether the information shall have practical utility; (b) the accuracy of the Agency's estimate of the burden of the information collection; (c) ways to enhance the quality, utility, and clarity of the information to be collected; and (d) ways to minimize the burden of the information collection on respondents, including through the use of automated collection techniques or other forms of information technology.

Dated: December 22, 2003.
By Direction of the Board.
Lester A. Heltzer,
Executive Secretary, National Labor Relations Board.

[FR Doc. 03-32127 Filed 12-30-03; 8:45 am]

BILLING CODE 7545-01-P